FEDERAL COMMUNICATIONS COMMISSION

47 CFR Part 73

[DA No. 00-646, MM Docket No. 00-54, RM-9835]

Radio Broadcasting Services; Mount Pleasant, TX

AGENCY: Federal Communications Commission.

ACTION: Proposed rule.

SUMMARY: This document requests comments on a petition filed by Leo Ashcraft proposing the allotment of Channel 263A at Mount Pleasant, Texas, as that community's first local FM service. The coordinates for Channel 263A at Mount Pleasant are 33-09-21 and 95-01-21. There is a site restriction 5.1 kilometers (3.1 miles) west of the community.

DATES: Comments must be filed on or before May 15, 2000, and reply comments on or before May 30, 2000.

ADDRESSES: Federal Communications Commission, 445 Twelfth Street, S.W., Washington, DC. 20554. In addition to filing comments with the FCC, interested parties should serve the petitioner, as follows: Leo Ashcraft, Michael Celenza, Celenza Communications, 41 Kathleen Crescent, Coram, New York 11727.

FOR FURTHER INFORMATION CONTACT: Kathleen Scheuerle, Mass Media Bureau, (202) 418-2180.

SUPPLEMENTARY INFORMATION: This is a summary of the Commission's Notice of Proposed Rule Making, MM Docket No. 00-54, adopted March 15, 2000, and released March 24, 2000. The full text of this Commission decision is available for inspection and copying during normal business hours in the Commission's Reference Center 445 Twelfth Street, SW, Washington, DC 20554. The complete text of this decision may also be purchased from the Commission's copy contractors, International Transcription Services, Inc., 1231 20th Street, NW., Washington, DC. 20036, (202) 857-3800, facsimile (202) 857-3805.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contact.

For information regarding proper filing procedures for comments, see 47 CFR 1.415 and 1.420.

List of Subjects in 47 CFR Part 73

Radio broadcasting.

Federal Communications Commission.
John A. Karousos,
Chief, Allocations Branch, Policy and Rules Division, Mass Media Bureau.

[FR Doc. 00-8172 Filed 4-3-00; 8:45 am]

BILLING CODE 6712-01-P